DEPARTMENT OF ENERGY

Federal Energy Regulatory Commission

Combined Notice of Filings #1

Take notice that the Commission received the following electric rate filings:

Docket Numbers: ER11-2635-001; ER11-2637-001; ER11-39-002.

Applicants: Synergics Roth Rock Wind Energy, LLC, Synergics Roth Rock North Wind Energy, LLC, Flat Water Wind Farm, LLC.

Description: Supplemental Information of Roth Rock Wind Farm, LLC, et al.

Filed Date: 2/23/12.

Accession Number: 20120223-5096.

Comments Due: 5 p.m. ET 3/15/12.

Docket Numbers: ER12-545-001.

Applicants: Lake Cogen, Ltd.

Description: Lake Cogen, Ltd. submits tariff filing per 35: Supplement to Notice of Non-Material Change in Status to be effective 5/8/2012.

Filed Date: 3/9/12.

Accession Number: 20120309-5120.

Comments Due: 5 p.m. ET 3/30/12.

Docket Numbers: ER12-547-001.

Applicants: Auburndale Power Partners, Limited Partnership.

Description: Auburndale Power Partners, Limited Partnership submits tariff filing per 35: Supplement to Notice of Non-Material Change in Status to be effective 5/8/2012.

Filed Date: 3/9/12.

Accession Number: 20120309-5123.

Comments Due: 5 p.m. ET 3/30/12.

Docket Numbers: ER12-1233-000.

Applicants: Arizona Public Service Company.

Description: Rate Schedule 257—Engineering & Procurement Agreement to be effective 3/12/2012.

Filed Date: 3/9/12.

Accession Number: 20120309-5004.

Comments Due: 5 p.m. ET 3/30/12.

Docket Numbers: ER12-1234-000.

Applicants: ISO New England Inc., New England Power Pool Participants Committee.

Description: Revisions to FCM Rules Related to Capacity Transfer Rights to be effective 6/1/2012.

Filed Date: 3/9/12.

Accession Number: 20120309-5026.

Comments Due: 5 p.m. ET 3/30/12.

Docket Numbers: ER12-1235-000.

Applicants: Southern California Edison Company.

Description: Amended LGIA SCE-Palo Verde Solar II, LLC to be effective 1/7/2012.

Filed Date: 3/9/12.

Accession Number: 20120309-5046.

Comments Due: 5 p.m. ET 3/30/12.

Docket Numbers: ER12-1236-000.

Applicants: Interstate Power and Light Company.

Description: IPL and Great River Energy LBAOCA to be effective 5/8/2012.

Filed Date: 3/9/12.

Accession Number: 20120309-5065.

Comments Due: 5 p.m. ET 3/30/12.

Docket Numbers: ER12-1237-000.

Applicants: California Independent System Operator Corporation.

Description: 2012-03-09 CAISO's Amendment 5 to the PLA with CDWR to be effective 3/10/2012.

Filed Date: 3/9/12.

Accession Number: 20120309-5095.

Comments Due: 5 p.m. ET 3/30/12.

Take notice that the Commission received the following electric securities filings:

Docket Numbers: ES12-23-000.

Applicants: Wolverine Power Supply Cooperative, Inc.

Description: Amendment to Application of Wolverine Power Supply Cooperative, Inc. under ES12-23.

Filed Date: 3/8/12.

Accession Number: 20120308-5200.

Comments Due: 5 p.m. ET 3/19/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 09, 2012.
Nathaniel J. Davis, Sr.,
Deputy Secretary.

[FR Doc. 2012-6511 Filed 3-16-12; 8:45 am]

BILLING CODE 6717-01-P